DEPARTMENT OF LABOR

Occupational Safety and Health Administration

[Docket No. OSHA-2007-0041]

FM Global Approvals LLC: Grant of Renewal of Recognition

AGENCY: Occupational Safety and Health Administration (OSHA), Labor.

ACTION: Notice.

SUMMARY: This notice announces the Occupational Safety and Health Administration's final decision granting renewal of recognition of FM Global Approvals LLC, as a Nationally Recognized Testing Laboratory (NRTL) under 29 CFR 1910.7.

DATES: The renewal of recognition becomes effective on July 14, 2014.

FOR FURTHER INFORMATION CONTACT: Information regarding this notice is available from the following sources:

Press inquiries: Contact Mr. Frank Meilinger, Director, OSHA Office of Communications, U.S. Department of Labor, 200 Constitution Avenue NW., Room N-3647, Washington, DC 20210; telephone: (202) 693-1999; email: Meilinger.francis2@dol.gov.

General and technical information: Contact Mr. David Johnson, Director, Office of Technical Programs and Coordination Activities, Directorate of Technical Support and Emergency Management, Occupational Safety and Health Administration, U.S. Department of Labor, 200 Constitution Avenue NW., Room N-3655, Washington, DC 20210; telephone: (202) 693-2110; email: johnson.david.w@dol.gov. OSHA's Web page includes information about the NRTL Program (see http://www.osha.gov/dts/otpca/nrtl/index.html).

SUPPLEMENTARY INFORMATION:

I. Background

OSHA recognition of an NRTL signifies that the organization meets the requirements specified by 29 CFR 1910.7. Recognition is an acknowledgment that the organization can perform independent safety testing and certification of the specific products covered within its scope of recognition, and is not a delegation or grant of government authority. As a result of recognition, employers may use products properly approved by the NRTL to meet OSHA standards that require testing and certification. OSHA maintains an informational Web site for each NRTL at http://www.osha.gov/dts/otpca/nrtl/index.html that details its scope of recognition.

OSHA processes applications submitted by an NRTL for renewal of recognition following requirements in Appendix A to 29 CFR 1910.7. OSHA conducts renewals in accordance with the procedures in 29 CFR 1910.7, App. A II.C. In accordance with these procedures, NRTLs submit a renewal request to OSHA between nine months and one year before the expiration date of its current recognition. A renewal request includes a request for renewal and any additional information demonstrating its continued compliance with the terms of its recognition and 29 CFR 1910.7. If OSHA has not conducted an on-site assessment of the NRTL headquarters and any key sites within the past 18 to 24 months, it will schedule the necessary on-site assessment prior to the expiration date of the NRTL's recognition. Upon review of the submitted material and, as necessary, the successful completion of the on-site assessment, OSHA announces its preliminary decision to grant or deny renewal in the Federal Register and solicits comments from the public. OSHA then publishes a final Federal Register notice responding to any comments and renewing the NRTL's recognition for a period of five years, or denying the renewal of recognition.

FM Global Approvals LLC (FM) initially received OSHA recognition as an NRTL on June 13, 1988 (see 60 FR 16167, March 29, 1995). The most recent renewal for FM was on September 12, 2001, for a five-year period expiring on September 12, 2006. FM submitted a timely request for renewal, dated November 29, 2005 (see Ex. OSHA-2007-0041-0006), and retained its recognition pending OSHA's final decision in this renewal process. The current addresses of FM facilities recognized by OSHA and included as part of the renewal request are:

1. FM Norwood, 1151 Boston-Providence Turnpike, Norwood, Massachusetts 02062; and

2. FM West Gloucester, 743 Reynolds Road, West Gloucester, Rhode Island 02814.

OSHA evaluated FM's application for renewal and made a preliminary determination that FM can continue to meet the requirements prescribed by 29 CFR 1910.7 for recognition. OSHA conducted audits of FM's facilities on October 24-26, 2012, August 17-19, 2009, and August 5-6, 2008. OSHA found non-conformances with the requirements of 29 CFR 1910.7. FM addressed these issues sufficiently to meet the applicable NRTL requirements. Accordingly, OSHA determined that it did not need to conduct an on-site review of FM's facilities for this request for renewal, based on its evaluation of FM's application and all other available information.

OSHA published the preliminary notice announcing FM's renewal request in the Federal Register on February 24, 2014 (79 FR 10192). The Agency requested comments by March 11, 2014, but received no comments in response to this notice. OSHA now is proceeding with this final notice to grant FM's request for renewal of recognition.

To obtain or review copies of all public documents pertaining to the FM's application, go to www.regulations.gov or contact the Docket Office, Occupational Safety and Health Administration, U.S. Department of Labor, 200 Constitution Avenue NW., Room N-2625, Washington, DC 20210. Docket No. OSHA-2007-0041 contains all materials in the record concerning FM's recognition.

II. Final Decision and Order

Pursuant to the authority granted under 29 CFR 1910.7, OSHA hereby gives notice of the renewal of recognition of FM as an NRTL. OSHA NRTL Program staff reviewed the renewal request for FM and other pertinent information. Based on this review of the renewal request for FM and other pertinent information, OSHA finds that FM meets the requirements of 29 CFR 1910.7 for renewal of its recognition, subject to the specified limitation and conditions. OSHA limits the renewal of FM's recognition to include the terms and conditions of FM's scope of recognition. The scope of recognition for FM is available in the Federal Register notice dated March 29 1995 (60 FR 16167), or on OSHA's Web site at http://www.osha.gov/dts/otpca/nrtl/fm.html.

Conditions

In addition to those conditions already required by 29 CFR 1910.7, FM also must abide by the following conditions of recognition:

1. FM must inform OSHA as soon as possible, in writing, of any change of ownership, facilities, or key personnel, and of any major change in its operations as an NRTL, and provide details of the change(s);

2. FM must meet all the terms of its recognition and comply with all OSHA policies pertaining to this recognition; and

3. FM must continue to meet the requirements for recognition, including all previously published conditions on FM's scope of recognition, in all areas for which it has recognition.

III. Authority and Signature

David Michaels, Ph.D., MPH, Assistant Secretary of Labor for Occupational Safety and Health, 200 Constitution Avenue NW., Washington, DC 20210, authorized the preparation of this notice. Accordingly, the Agency is issuing this notice pursuant to 29 U.S.C. 657(g)(2), Secretary of Labor's Order No. 1-2012 (77 FR 3912, Jan. 25, 2012), and 29 CFR 1910.7.

David Michaels,
Assistant Secretary of Labor for Occupational Safety and Health.

[FR Doc. 2014-16430 Filed 7-11-14; 8:45 am]

BILLING CODE 4510-26-P